DEPARTMENT OF THE INTERIOR

Fish and Wildlife Service

[FWS-R9-MB-2011-N148; 91300-1234-0000]

North American Waterfowl Management Plan

AGENCY: Fish and Wildlife Service, Interior.

ACTION: Notice of document availability for review and public comment.

SUMMARY: We, the Fish and Wildlife Service, announce the availability of the draft North American Waterfowl Management Plan Revision (draft Plan Revision) for public review. We request review and comment on the draft Plan Revision from local, State, and Federal agencies; nongovernment conservation organizations; and the public. The draft Plan Revision, which was developed in close consultation with the waterfowl management community, provides a framework for waterfowl management in the 21st century.

DATES: To ensure that we are able to consider your comments, please submit them on or before September 26, 2011.

ADDRESSES: If you wish to review the draft Plan Revision, you may obtain a copy on our Web site at http://www.nawmprevision.org.

You may submit comments on the draft Plan Revision through the http://www.nawmprevision.org Web site, via e-mail to info@nawmprevision.org, or by U.S. Mail to the U.S. Fish and Wildlife Service-Division of Bird Habitat Conservation, Attn: Draft NAWMP Revision, 4401 North Fairfax Drive MS4075, Arlington, VA 22203.

FOR FURTHER INFORMATION CONTACT: Michael J. Johnson at the above address, at 703-358-1784, or at mike_j_johnson@fws.gov.

SUPPLEMENTARY INFORMATION:

Background

The North American Waterfowl Management Plan (NAWMP or Plan), first signed in 1986, has remained a leading model for other international conservation plans. In large measure, this is because it is a living and evolving document that is updated periodically with engagement of the broad waterfowl conservation community. This important work is under way again, with a target date of mid-2012 for completion.

The Plan Committee formed the NAWMP Revision Steering Committee (RSC) to serve as a focal point for gathering, vetting, and synthesizing ideas from the waterfowl management community and to advise the Plan Committee on the content of the Plan Revision.

At its August 2009 meeting, the Plan Committee agreed to engage stakeholders in generating initial fundamental goals for the Plan Revision using a facilitated process to ensure consistency in approach.

Plan Revision Development

To achieve broad consensus, the Plan Committee used an iterative, highly transparent, and well documented process that included waterfowl conservation stakeholders.

The process began with two rounds of workshops in Canada and the United States aimed at eliciting goals and objectives for waterfowl management and identifying broad-scale alternative strategies for achieving objectives.

During 6 Round One workshops, participants identified 3 fundamental objectives for waterfowl management from a list of 31 candidate objectives. During Round Two, participants clarified the meaning of the fundamental objectives identified in Round One.

A total of 266 people participated in 13 Round One and Round Two workshops in the United States and Canada. Several people submitted input via the http://www.nawmprevision.org website. The RSC synthesized Round One and Round Two workshop results and website feedback, and a writing team prepared the draft Plan Revision document.

Request for Public Comments

We invite written comments on the draft Plan Revision. We will consider all comments we receive by the date specified in DATES. Methods of submitting comments are in ADDRESSES.

Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority: Fish and Wildlife Coordination Act (16 U.S.C. 661-667e)

Dated: July 26, 2011.
James J. Slack,
Acting Director, U.S. Fish and Wildlife Service.

[FR Doc. 2011-21719 Filed 8-24-11; 8:45 am]

BILLING CODE 4310-55-P